POSTAL REGULATORY COMMISSION

[Docket Nos. CP2008-8, CP2008-9 and CP2008-10; Order No. 81]

Global Plus Postal Contracts

AGENCY: Postal Regulatory Commission.

ACTION: Notice.

SUMMARY: This document announces the filing of three Postal Service notices regarding Global Plus contracts and related Commission review. Publication of this document satisfies procedural requirements. It also allows interested persons an opportunity to comment.

DATES: Postal Service filings are due June 13, 2008. Public comments are due June 19, 2008.

ADDRESSES: Submit comments electronically via the Commission's Filing Online system at http://www.prc.gov.

FOR FURTHER INFORMATION CONTACT: Stephen L. Sharfman, General Counsel, 202-789-6820 and stephen.sharfman@prc.gov.

SUPPLEMENTARY INFORMATION: On June 2, 2008, the Postal Service filed three notices, which have been assigned to Docket Nos. CP2008-8, CP2008-9 and CP2008-10, announcing prices and classification changes for competitive products not of general applicability. The notice in Docket No. CP2008-8 informs the Commission that “the Governors have established prices and classifications for competitive products not of general applicability for Global Plus Contracts.” ¹ The Postal Service attached a revision of the draft Mail Classification Schedule (MCS) (section 2610.5) concerning Global Plus contracts to the Notice.² Docket No. CP2008-8 has been filed pursuant to 39 U.S.C. 3632(b)(3) and 39 CFR 3015.5 and 3020.90. In support of this docket, the Postal Service has also filed materials under seal, including the Governors' decision. The Postal Service claims that “[c]ontract prices are highly confidential in the business world * * * [and that its] ability * * * to negotiate individual contracts would be severely compromised if prices for these types of agreements were publicly disclosed.” Notice at 1-2.

¹ Notice of United States Postal Service of Governors' Decision Establishing Prices and Classifications for Global Plus Contracts, June 2, 2008, at 1 (Notice).

² The draft MCS remains under review. The Commission anticipates providing interested persons an opportunity to comment on the draft MCS in the near future. Modifications to the MCS, such as proposed in Docket No. CP2008-8, should, in the future, be filed in the dockets designated by the “MC” prefix. Contracts executed pursuant to those requested classifications are appropriately filed as “CP” dockets.

The notices in Docket Nos. CP2008-9 and CP2008-10 announce individual negotiated service agreements, namely, specific Global Plus contracts that the Postal Service has entered into with individual mailers.³ In support of these dockets, the Postal Service has also filed materials, including the contracts and supporting materials, under seal.⁴ The Postal Service asserts that “[t]he names of customers who enter into respective contracts and the related contract prices are highly confidential business information.” Docket No. CP2008-9 Pricing Notice at 1; Docket No. CP2008-10 Pricing Notice at 1.

³ Docket No. CP2008-9, Notice of United States Postal Service Filing of a Global Plus Contract, June 2, 2008 (Docket No. CP2008-9 Pricing Notice); Docket No. CP2008-10, Notice of United States Postal Service of Filing a Global Plus Contract, June 2, 2008 (Docket No. CP2008-10 Pricing Notice).

⁴ The Postal Service's filings under seal did not comply with the Commission's procedural rules. The Postal Service is reminded that a cover sheet must be attached to all documents being filed under seal. The cover sheet must contain the caption and title pursuant to 39 CFR 3001.11(a). Consistent with previous practice, documents filed under seal should contain a statement similar to the following: “CONFIDENTIAL—DOCUMENT FILED UNDER SEAL.” See, e.g., Docket No. MC2005-3, P.O. Ruling MC2005-3/2, at Attachment para. 10.

The Postal Service's filings in these dockets are related. Docket No. CP2008-8 establishes, in essence, a shell classification, while Docket Nos. CP2008-9 and CP2008-10 are specific agreements negotiated pursuant to the conditions of the shell classification. Given this interrelationship, the Commission reviews these proceedings together in this order.⁵

⁵ While this order treats these proceedings together due to their interrelated nature, future filings should be made in the docket related to the issues being addressed.

In Order No. 43, the Commission issued regulations establishing a modern system of rate regulation, including a list of competitive products. PRC Order No. 43, October 29, 2007, 3061, 4013. Among other things, the Commission determined that each negotiated service agreement would initially be classified as a separate product. The Commission also acknowledged, however, the possibility of grouping functionally equivalent agreements as a single product if they exhibit similar cost and market characteristics. Id. 2177 and 3001. In its filings, the Postal Service does not contend or provide support for the proposition that these two agreements are premised on similar cost and market characteristics. Thus, the specific Global Plus agreements filed in Docket Nos. CP2008-9 and CP2008-10 will be classified as new products.

As noted above, the Postal Service filed all three above-captioned dockets pursuant to 39 CFR 3015.5.⁶ Recognizing that the Postal Service's filings in these proceedings represent a series of recent filings involving competitive rates not of general applicability under 39 U.S.C. 3632(b)(3), the Commission will proceed as if the Global Plus negotiated service agreements also had been filed pursuant to 39 CFR part 3020, subpart B.⁷ As a consequence, the Commission will also review the dockets pursuant to 39 CFR 3020.34. Because the Commission in its own discretion will review these dockets under 39 CFR 3020.34, the Postal Service may, if it wishes to do so, supplement the materials already filed with the Commission.⁸

⁶ Docket No. CP2008-8 was also filed pursuant to 39 CFR 3020.90.

⁷ In Order Nos. 78 and 79, the Commission provided guidance on the filing procedures that should be used for such filings in the future. See PRC Order No. 78 at 3, n.6.

⁸ The Commission characterizes the Governors' decision and associated materials filed in Docket No. CP2008-8 as material that supports the specific negotiated service agreements filed in Docket Nos. CP2008-9 and CP2008-10.

In addition, the Commission directs the Postal Service to identify and list any contracts currently in existence (and their respective expiration dates) that would no longer qualify as Global Plus contracts under proposed revised section 2610.5 to the draft MCS attached to the Notice in Docket No. CP2008-8. The Commission also directs the Postal Service to provide a detailed justification for why it believes that Global Plus contracts' expiration dates (without disclosing the identity of the customers) should not be made publicly available. The Postal Service must also address the reasons why the entire Governors' decision is considered to be highly confidential or otherwise entitled to be filed under seal.

Under the negotiated service agreements at issue, mailers would pay discounted rates prior to necessary regulatory approval for such rates subject to subsequent collection of the full rate if regulatory approval is not obtained. The Postal Accountability and Enhancement Act does not appear to contemplate this arrangement for new products. See 39 U.S.C. 3642(e). The Postal Service should address this issue in its comments.

Answers to the Commission's questions and any supplemental materials that the Postal Service plans to provide are due no later than June 13, 2008.

Interested persons may express views and offer comments on whether the planned changes are consistent with the policies of 39 U.S.C. 3632, 3633, or 3642. Comments are due no later than June 19, 2008.

Pursuant to 39 U.S.C. 505, Paul L. Harrington is appointed to serve as officer of the Commission (Public Representative) to represent the interests of the general public in the above-captioned dockets.

It is ordered:

1. Responses to the Commission's questions set forth in the body of this order and any supplemental materials that the Postal Service wishes to provide are due no later than June 13, 2008.

2. Comments by interested persons on issues in these proceedings are due no later than June 19, 2008.

3. The Commission appoints Paul L. Harrington as Public Representative to represent the interests of the general public in these proceedings.

4. The Secretary shall arrange for publication of this order in the Federal Register.

By the Commission.
Steven W. Williams,
Secretary.

[FR Doc. E8-13161 Filed 6-11-08; 8:45 am]

BILLING CODE 7710-FW-P